DEPARTMENT OF THE INTERIOR

National Park Service

Final Environmental Impact Statement and Environmental Impact Report; Giacomini Wetlands Restoration Project; Point Reyes National Seashore, Marin County, CA; Notice of Availability

Summary: Pursuant to § 102(2)(C) of the National Environmental Policy Act of 1969 (Pub. L. 91-190, as amended), and the Council on Environmental Quality Regulations (40 CFR part 1500-1508), the National Park Service, Department of the Interior, has prepared a Final Environmental Impact Statement (FEIS) identifying and evaluating the no-action alternative and four action alternatives for the restoration of the Giacomini wetlands. When approved, the plan will guide the National Park Service in restoration and public access actions for lands at the headwaters of Tomales Bay, Marin County, California. Because some of the proposed restoration project area includes state, county and private lands, the document also fulfills California Environmental Quality Act (CEQA) requirements as a Final Environmental Impact Report (EIR). The California State Lands Commission (CALC) is the CEQA lead agency for this project. Through the FEIS/EIR, the potential impacts of the five alternatives are assessed and, where appropriate, measures to avoid or reduce the intensity of potential effects are identified. Three preliminary restoration options that were considered, but rejected because they did not achieve restoration objectives or were infeasible, are also described in the FEIS/EIR.

Project Planning Background: Point Reyes National Seashore is a unit of the National Park Service (NPS) located in western Marin County, California. It was established by Congress on September 13, 1962, “to save and preserve, for the purpose of public recreation, benefit, and inspiration, a portion of the diminishing seashore of the United States that remains undeveloped” (Pub. L. 87-657). A large portion of Tomales Bay watershed lands were acquired by the NPS in the 1960s and 1970s for establishment of two neighboring parks—Point Reyes National Seashore (Seashore) and Golden Gate National Recreation Area (GGNRA). In 1980, the boundary for GGNRA was expanded to include the Waldo Giacomini Ranch (Giacomini Ranch) and the eastern portion of Tomales Bay. The Giacomini Ranch falls within the north district of the GGNRA, which is administered by the Seashore.

The Seashore and CALC are proposing to restore historic wetlands at Giacomini Ranch in Tomales Bay, an embayment that borders the Seashore to the east and north. The Giacomini Ranch property was once part of a large tidal marsh complex at the southern end of Tomales Bay that also encompassed portions of Olema Marsh (a 60-acre freshwater marsh that is partially owned by the NPS). The Giacomini property was diked in 1946 and has been used by the Waldo Giacomini family as a dairy since then. The property was purchased from the Giacomini family in 2000. Partial funding for the purchase came from the California Department of Transportation (CalTrans), which was under obligation to the California Coastal Commission (CCC) to mitigate for impacts resulting from the Lone Tree road repair along State Route 1 conducted in the early 1990s. The CCC eventually allowed CalTrans to fulfill mitigation obligations by making funds available to the NPS to purchase, restore, and manage a replacement wetland site.

While the NPS is obligated under its agreement with CalTrans and CCC to mitigate only a total of 3.6 acres, the Seashore believes that the potential value of the historic salt marsh is significant not only to the NPS and its resource conservation objectives, but to the Tomales Bay watershed ecosystem as a whole. Tomales Bay was recently declared impaired for sediment, nutrients, and fecal coliform by the San Francisco Regional Water Quality Control Board under § 303(d) of the Clean Water Act. Coastal wetlands act as both a food source and filtering system for estuarine and marine systems, and the loss of these wetlands in many parts of the bay has contributed to this designation. The diking of the Giacomini property resulted in the loss of hydrologic connectivity and diminished delta functionality for more than 50 percent of the coastal tidal wetlands present in Tomales Bay in the late 1800s. Restoration would reestablish hydrologic connectivity between Tomales Bay and the project area, resulting in increased wetland functionality.

The project purpose and goals reflect a broad ecosystem-level approach to restoration. The purpose of the proposed project is to restore natural hydrologic processes within a significant portion of the project area, thereby promoting restoration of ecological processes and functions. Three goals, which further support the overall purpose, were also developed, as follows:

• Restore natural, self-sustaining tidal, fluvial (streamflow), and groundwater hydrologic processes, thereby enabling reestablishment of some of the ecological processes and functions associated with wetland and riparian areas, such as water quality improvement, floodwater storage, food chain support, and wildlife habitat.

• Pursue a watershed-based approach to restoration so as to emphasize opportunities to improve ecological conditions within the entire Tomales Bay watershed, not just in the project area itself.

• To the extent possible, incorporate opportunities for the public to experience and enjoy the restoration process as long as opportunities do not conflict with the project's purpose or with NPS, CALC, or other agency legislation or policies.

For these reasons, the NPS and CALC propose to restore natural hydrologic and ecological processes on most or all of the 563-acre property. The NPS and CALC developed a range of alternatives for accomplishing this restoration project that encompass a spectrum of hydrologic and topographic changes. However, there are a series of activities that would be conducted under all five alternatives, including: Discontinuation of agricultural land management on the property, removal of general agricultural infrastructure and buildings from upland areas, and periodic maintenance of creeks to ensure that sediment deposition does not elevate flood risk to adjacent properties. In addition, the Giacomini family would remove all personal property from the project area, including worker housing trailers near Mesa Road. Water rights to Lagunitas Creek, acquired as part of the transfer of ownership, would be dedicated to in-stream flow. The NPS would also enter into a lease agreement with the CALC for leasing of subtidal lands in Lagunitas Creek within the project area. Finally, the NPS will be working with the USGS on an effort to expand the tidewater Goby population within the southern portions of Tomales Bay.

Proposed Giacomini Wetlands Restoration: Extensive Restoration of the Giacomini Ranch East Pasture, Full Restoration of the West Pasture, and Restoration of Olema Marsh with Limited Public Access (Alternative D). This alternative has been determined to be “environmentally preferred”, and involves complete removal of levees in both the West and East Pasture. In general, this alternative builds upon the actions proposed in Alternative B and Alternative C (see below) by fully realigning one of the leveed creeks within the Giacomini Ranch; excavating a portion of the ranch pasture into active intertidal marshplain and floodplain; increasing the amount of culvert replacement to improve hydraulic connectivity, streamflow, and passage of salmonid species; and increasing active revegetation and invasive non-native plant removal efforts. In addition, this alternative incorporates adaptive restoration of Olema Marsh (which is located south of Giacomini Ranch and White House Pool and is owned by Audubon Canyon Ranch (ACR) and the NPS); this would include a phased approach to shallow channel excavation, vegetated berm removal, and potential replacement of Levee Road and/or Bear Valley Road culverts in the future should initial restoration efforts not achieve the desired degree of success.

Public access components of Alternative D include an improved spur trail leading to the edge of the Dairy Mesa; an improved spur trail extension of the existing Tomales Bay Trail; an improved spur trail on the southern perimeter following the existing alignment of an informal social path; and an ADA-compliant path in White House Pool County Park. The NPS would also pursue working with Marin County (through separate environmental compliance) to consider additional public access facilities on the southern perimeter of the project area, including reevaluation of a trail along Levee Road, extension of a trail to Inverness Park, and, should other options not prove viable, a non-vehicular bridge across Lagunitas Creek.

Alternatives to Proposed Project: Under the No Action Alternative, levees, tidegates, and culverts in the Giacomini Ranch will remain. An 11-acre area will be restored on the northeast corner of the east pasture to satisfy mitigation requirements for aquatic habitat impacts caused by CalTrans due to road repairs on State Route 1 in Marin County in exchange for the NPS receiving monies to purchase and restore the Giacomini Ranch. The remainder of the levees in the East Pasture and West Pasture would no longer be maintained. Under the No Action Alternative only, there is potential for limited grazing, with consultation conducted under a separate compliance process. Olema Marsh would not be restored, and there would be no new public access facilities.

Alternative A—Limited Restoration of the Giacomini Ranch East Pasture Only with Expanded Public Access, Including Culverted Earthen Fill Trail on Eastern Perimeter. This alternative involves selective breaching of the East Pasture levee, while levees and tidegates in the West Pasture would not be removed. A limited amount of tidal channel creation, creek bank grading, and revegetation would also be performed in the East Pasture. Most of the actions under this alternative focus on removing agricultural infrastructure such as filling of ditches, ripping of compacted roads, fence removal, and removal of pumps, pipelines, and concrete spillways, as well as removal of ranch buildings. For future public access, the southern perimeter trail would include a prefabricated bridge across Lagunitas Creek, near the old summer dam location across from White House Pool County Park. The bridge design would place footings outside of the active channel, so as to not impinge on hydrologic processes. Future extension of the southern perimeter trail, in collaboration with the County of Marin, would connect White House Pool County Park with a path along Sir Francis Drake Boulevard (that would either run alongside the road or move off the road at the southern end of the unrestored West Pasture onto a low-elevation boardwalk that would join back with Sir Francis Drake Boulevard in Inverness Park). Other infrastructure constructed is a culverted berm through-trail on the eastern perimeter of the East Pasture.

Alternative B—Moderate Restoration of the Giacomini Ranch East Pasture and Limited Restoration of the West Pasture with Expanded Public Access, Including Boardwalk Trail on the Eastern Perimeter. This alternative would completely remove the East Pasture levees and create several breaches in the West Pasture levee, as well as remove the tidegate on Fish Hatchery Creek. More tidal channel creation, grading, and revegetation would occur than under Alternative A. There would be no activities taken at Olema Marsh. Most of the new public access facilities would continue to be limited to the eastern and southern perimeters of the East Pasture, including construction of the pedestrian access bridge across Lagunitas Creek near the old summer dam, and extension of the southern perimeter trail to Inverness Park. The culverted berm through-trail on the eastern perimeter in Alternative A would instead be a boardwalk. On the West Pasture north levee, a viewing area would replace the existing informal trail.

Alternative C—Full Restoration of the Giacomini Ranch East and West Pastures and Restoration of Olema Marsh, with Moderate Public Access. This alternative involves complete removal of levees in both the West and East Pasture. In general, this alternative would result in more tidal channel creation, grading, and revegetation than Alternative B. In addition, the project boundary is expanded to include Olema Marsh, which is located south of the Giacomini Ranch and White House Pool and is owned by ACR and the NPS. Olema Marsh and the Giacomini Ranch once formed an integrated tidal wetland complex. In Alternative C, there would be an adaptive approach for Olema Marsh restoration that would include phased shallow channel excavation and vegetated berm removal. Levee Road and Bear Valley Road culverts could be replaced in the future should initial restoration efforts not achieve the desired degree of success. Public access components include the southern perimeter path and proposed future trails as described under Alternative A and Alternative B, but there would be two spur trails rather than a through-trail on the eastern perimeter of the Giacomini Ranch.

Principal Differences Between the Draft and Final EIS/EIR:

Change in Preferred Alternative: The alternative preferred by the NPS and CALC has been changed to Alternative D from Alternative C. The lead agencies initially chose Alternative C as the Preferred Alternative as it appeared to best meet both wetland restoration goals and community public access needs. During public review of the DEIS/EIR, a large number of responses from the public, organizations, and agencies advocated selecting Alternative D because it was more compatible with restoration and would have less traffic, noise, pollution, and land use impacts.

Changes to Alternative D: Alternative D has been modified slightly in the FEIS/EIR in response to public feedback so as to slightly decrease the degree of excavation, to remove eucalyptus from Tomasini Creek, and to construct an ADA-compliant trail and viewing platform at the nearby White House Pool County Park. In addition, this alternative now also incorporates the option for NPS to collaborate with Marin County in a separate environmental process on possible additional public access facilities on the southern perimeter of the project area (as noted above).

Change in Impact Determinations: Because of refinement of construction scheduling and project design (identified in Chapter 2), the NPS and CALC have re-assessed some levels of impact identified, although none of these changes results in any “Significant, Unavoidable Impacts”, such that all major impacts are mitigated to moderate or lesser intensities.

• Construction-related air quality impacts under Alternative C have been reduced to moderate, although Alternative D still would have major or substantial impacts that are mitigated to moderate levels through implementation of recommended Best Management Practices.

• Alternative A and Alternative B would have major impacts on riparian habitat due to construction of the eastern perimeter trail that could conflict with state and local policies on riparian habitat protection, but these impacts would be mitigated to minor or moderate through active and passive revegetation efforts.

• Major restoration actions in Olema Marsh identified as part of the adaptive restoration under Alternative C and Alternative D such as culvert replacement would not be implemented until the NPS can confirm these actions would not cause major impacts to municipal water supply through increasing water salinities in the portion of the Lagunitas Creek that is adjacent to municipal groundwater wells.

Summary of Public Engagement: On September 23, 2002, a Notice of Intent (NOI) to conduct public scoping to inform preparation of an EIS was published in the Federal Register. On September 25, 2002, a copy of the NOI and scoping information was sent to 45 landowners adjacent to the project area, and 163 persons and organizations on a public review request list maintained by the Seashore. On October 4, 2002, the NOI was sent to the Governor's Office of Planning and Research State Clearinghouse for distribution to relevant state agencies (SCH# 2002114002). Following agreement by CALC to act as the lead CEQA agency, a Notice of Preparation (NOP) for preparation of a joint EIS/EIR was prepared by CALC, and distributed to the State Clearinghouse, which circulated the NOP between May 29 and June 30, 2003. The extensive public scoping period also closed on June 30, 2003.

Oral comments were heard at a public information meeting at the October 19, 2002 Advisory Commission held at the Point Reyes Dance Palace where approximately 30 to 40 members of the public attended. In addition to the oral comments obtained, approximately 86 individuals or private organizations provided written comments regarding the proposed restoration. Regulatory scoping meetings were conducted on November 6, 2002 and November 8, 2002 during the public scoping period. The NPS and CALC received comments from seven local, state, or federal agencies. After the public scoping phase concluded on June 30, 2003, a staff report was prepared that summarized all information derived from the public scoping process.

After a series of internal post-scoping discussions in spring 2004, the NPS and CALC hosted a series of information meetings with regulatory and local and state agencies, adjacent landowners, and local technical experts in the field of wetland restoration, to present and receive feedback on preliminary restoration and public access concepts. This phase culminated in a public workshop on June 22, 2004, at the Seashore Red Barn attended by more than 110 people. Following the June public workshop, all interested individuals and organizations were encouraged to submit comments to the NPS and CALC on the restoration concepts and scope of the proposed DEIS/EIR.

Through July 23, 2004 written letters or e-mails from 58 individuals and 14 private organizations were received, as well as two petitions with a total of approximately 450 signatures. NPS staff also met with representatives of stakeholder groups from Marin County and interested agencies that requested briefings. In response to the comments received, the NPS and CALC contracted for two additional studies on public access options within the project area that evaluated potential impacts on resources and adjacent land uses, as well as technical feasibility and costs. As part of this effort, additional meetings were held with adjacent landowners and the general public in February-March, 2005.

The Seashore's Notice of Availability for the DEIS/EIR was published in the Federal Register on November 3, 2006. The EPA's notification of filing of the DEIS/EIR was published in the Federal Register on December 15, 2006, formally initiating the 60-day public comment period. A notice that the DEIS/EIR had been also filed with the State Clearinghouse was published on December 18, 2006. The Seashore mailed over 450 letters regarding availability of the DEIS/EIR for public review on December 13, 2006 (this letter also announced a public meeting scheduled for January 25, 2007, at the Seashore Red Barn, and confirmed that the public comment period would end February 14, 2007).

On December 14, 2006, a press release announcing the public meeting was distributed to the Point Reyes Light, Marin Independent Journal, and Press Democrat, as well as 28 other media outlets, including newspapers, radio stations, and television stations. Details about the public meeting were also posted on the Seashore's Web site. The Marin Independent Journal and Point Reyes Light published articles about release of the DEIS/EIR and the pending public meeting. Approximately 100 members of the public attended the January 25, 2007 meeting. The Point Reyes Light published an account of the meeting on February 1, 2007.

Altogether approximately 180 interested individuals and organizations responded to release of the DEIS/EIR; approximately 170 were from private individuals. There were no form letters. More than 99 percent of the letters submitted were from residents of Marin County. Organizations providing comments included the Environmental Action Committee of Marin; Point Reyes Lodging Association; Marin County Bicycle Coalition/Community Pathways Committee/Access 4 Bikes; California Native Plant Society; Point Reyes Village Association; Sierra Club, Marin Chapter; and Tomales Bay Association. Ten responses were received from local, state, or federal agencies—the California Coastal Commission; the California Regional Water Quality Control Board; the Gulf of the Farallones National Marine Sanctuary; the North Marin Water District; the Marin/Sonoma Mosquito and Vector Control District; the County of Marin Department of Public Works; the County of Marin Department of Parks and Open Space District; the State Department of Conservation; the State of California Department of Fish and Game; and the EPA.

More than 90 percent of the oral and written comments received during the public meeting and throughout the comment period concerned the choice of Alternative C as the Preferred Alternative. A large number of comments also advocated modifications to either the existing Preferred Alternative or to Alternative D, with most of these proposed modifications focusing on changes to the public access components on the eastern and southern perimeters of the project area. On March 2, 2007, the EPA published its Lack of Objection (LO) findings regarding the DEIS/EIR, noting that the “EPA supports the proposed project and believes it will significantly improve the hydrologic and ecological processes and functions in the Tomales Bay Watershed.”

All written comments received and a summary of commentary from the January 25, 2007, public meeting are available for inspection at the Seashore Administration Building, 1 Bear Valley Road, Point Reyes Station, CA. Substantive comments and responses are documented in the FEIS/EIR. Copies of the FEIS/EIR may be obtained from the Superintendent, Point Reyes National Seashore, Point Reyes, CA 94956, Attn: Giacomini Wetlands Restoration Project, or by e-mail request to: pore_planning@nps.gov (in the subject line, type: Giacomini Wetlands Restoration Project). The document will be sent directly to those who have requested it, and also will be posted on the Internet at the Seashore's Web site http://www.nps.gov/pore; and both the printed document and digital version on compact disk will be available at the park headquarters and local libraries.

Decision: As a delegated EIS/EIR, the official responsible for the final decision is the Regional Director, Pacific West Region. A Record of Decision, fully documenting the entire conservation planning and environmental decision-making process, will be prepared not sooner than 30 days following publication in the Federal Register of the EPA's notice of filing and availability of the Final EIS/EIR. Subsequently and prior to implementation, notice of approval of the Record of Decision will likewise be published in the Federal Register, as well as announced via local and regional news media. Following approval of the Giacomini Wetlands Restoration Project, the official responsible for project implementation will be the Superintendent, Point Reyes National Seashore.

Dated: April 25, 2007.
George J. Turnbull,
Acting Regional Director, Pacific West Region.

[FR Doc. E7-12714 Filed 6-29-07; 8:45 am]

BILLING CODE 4312-FW-P